DEPARTMENT OF HEALTH AND HUMAN SERVICES

Centers for Disease Control and Prevention

Advisory Committee for Injury Prevention and Control: Meeting

In accordance with section 10(a)(2) of the Federal Advisory Committee Act (P.L. 92-463), the Centers for Disease Control and Prevention (CDC) announces the following committee and subcommittee meetings.

Name: Advisory Committee for Injury Prevention and Control (ACIPC).

Times and Dates: 8:30 a.m.—4:25 p.m., March 28, 2001.

Place: DoubleTree Hotel Atlanta-Buckhead, 3342 Peachtree Road, N.E., Atlanta, Georgia 30326

Status: Open to the public, limited only by the space available.

Purpose: The Committee advises and makes recommendations to the Secretary, Health and Human Services, the Director, CDC, and Director, National Center for Injury Prevention and Control (NCIPC) regarding feasible goals for the prevention and control of injury. The Committee makes recommendations regarding policies, strategies, objectives, and priorities, and reviews progress toward injury prevention and control. The Committee provides advice on the appropriate balance of intramural and extramural research, and also provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements and provides concept review of program proposals and announcements.

Matters to be Discussed: The meeting will convene in open session from 8:30 a.m. to 4:25 p.m. on March 28, 2001. Following the NCIPC Director's update, the Committee will discuss the role of ACIPC; NCIPC growth areas, including presentations on fire-related injury prevention and child maltreatment prevention research; NCIPC budget; and current spending plan in violence against women. The Committee will also discuss reports from a March 12, 2001, conference call meeting of the Subcommittee on Family and Intimate Violence Prevention and the March 28, 2001, meeting of the Science and Program Review Subcommittee. Other topics include patient safety as an injury prevention and control issue, and small business innovative research.

Name: ACIPC Science and Program Review Subcommittee.

Times and Dates: 11:30 a.m.—12:30 p.m., March 28, 2001.

Place: DoubleTree Hotel Atlanta-Buckhead, 3342 Peachtree Road, N.E., Atlanta, Georgia 30326.

Status: Open to the public, limited only by the space available.

Purpose: The Subcommittee provides advice on the needs, structure, progress and performance of NCIPC programs. The Subcommittee provides second-level scientific and programmatic review for applications for research grants, cooperative agreements, and training grants related to injury control and violence prevention, and recommends approval of projects that merit further consideration for funding support. The Subcommittee also advises on priorities for research to be supported by contracts, grants, and cooperative agreements and provides concept review of program proposals and announcements.

Matters to be Discussed: The meeting will convene in open session from 11:30 a.m. to 12:30 p.m. on March 28, 2001. The Subcommittee will discuss an update on NCIPC's evaluation and planning.

Agenda items are subject to change as priorities dictate.

Contact Person for More Information: Mr. Thomas E. Blakeney, Acting Executive Secretary, ACIPC, NCIPC, CDC, 4770 Buford Highway, NE, M/S K61, Atlanta, Georgia 30341-3724, telephone 770/488-1481.

The Director, Management Analysis and Services Office, has been delegated the authority to sign Federal Register notices pertaining to announcements of meetings and other committee management activities, for both the Centers for Disease Control and Prevention and the Agency for Toxic Substances and Disease Registry.

Dated: March 7, 2001.
Carolyn J. Russell,
Management Analysis and Services Office, Centers for Disease Control and Prevention.

[FR Doc. 01-6130 Filed 3-12-01; 8:45 am]

BILLING CODE 4163-18-P